DEPARTMENT OF HOMELAND SECURITY

Coast Guard

[Docket No. USCG-2013-0518]

Commercial Fishing Safety Advisory Committee; Vacancies

AGENCY: Coast Guard, DHS.

ACTION: Request for applications.

SUMMARY: The Coast Guard seeks applications for membership on the Commercial Fishing Safety Advisory Committee (CFSAC). The CFSAC provides advice and makes recommendations to the Coast Guard and the Department of Homeland Security on matters relating to the safe operation of commercial fishing industry vessels.

DATES: Applicants must submit a cover letter and resume in time to reach the Designated Federal Officer (DFO) on or before July 26, 2013.

ADDRESSES: Send your cover letter and resume indicating the membership category for which you are applying via one of the following methods:

• By mail: Commandant (CG-CVC)/CFSAC, U.S. Coast Guard, 2100 Second Street SW., Mail Stop 7581, Washington, DC 20593-7581.

• By fax to 202-372-1917.

• By email to jack.a.kemerer@uscg.mil.

FOR FURTHER INFORMATION CONTACT: Mr. Jack Kemerer, Alternate Designated Federal Officer (ADFO), telephone at 202-372-1249, fax 202-372-1917, or email at jack.a.kemerer@uscg.mil.

SUPPLEMENTARY INFORMATION: CFSAC was authorized in Title 46, United States Code section 4508, as amended by section 604 of the Coast Guard Authorization Act of 2010 (Pub. L. 111-281) and chartered under the provisions of the Federal Advisory Committee Act (FACA) to provide advice and recommendations to the United States Coast Guard and the Department of Homeland Security (DHS) on matters relating to the safety of commercial fishing industry vessels.

CFSAC meets at least once each calendar year. It may also meet for other extraordinary purposes. Its subcommittees or working groups may communicate throughout the year to prepare for meetings or develop proposals for the committee as a whole to address specific tasks.

The Coast Guard will consider applications for five positions that expire or become vacant in October 2013 in the following categories: (a) Commercial Fishing Industry representatives (two positions); (b) General Public, an independent expert or consultant in maritime safety (one position); (c) a representative of education or training professionals related to fishing vessel safety or personnel qualifications (one position); and (d) a representative of underwriters that insure commercial fishing vessels (one position).

CFSAC, as established, consists of 18 members with particular expertise, knowledge, and experience regarding commercial fishing industry as follows:

(a) Ten members who shall represent the commercial fishing industry and who—(1) reflect a regional and representational balance; and (2) have experience in the operation of vessels to which Chapter 45 of Title 46, U.S.C. applies, or as crew member or processing line worker on a fish processing vessel;

(b) Three members who shall represent the general public, including, whenever possible—(1) an independent expert or consultant in maritime safety; (2) a marine surveyor who provides services to vessels to which Chapter 45 of Title 46, U.S.C. applies; and (3) a person familiar with issues affecting fishing communities and families of fishermen;

(c) One member each of whom shall represent—(1) naval architects and marine engineers; (2) manufacturers of equipment for vessels to which Chapter 45 of Title 46, U.S.C. applies; (3) education or training professionals related to fishing vessel, fish processing vessel, fish tender vessel safety or personnel qualifications; (4) underwriters that insure vessels to which Chapter 45 of Title 46, U.S.C. applies; and (5) owners of vessels to which Chapter 45 of title 46, U.S.C. applies.

Each member serves for a term of three years. An individual may be appointed to more than one term. All members serve at their own expense and receive no salary from the Federal Government, although travel reimbursement and per diem may be provided for called meetings. Registered lobbyists are not eligible to serve on Federal Advisory Committees. Registered lobbyists are lobbyists required to comply with provisions contained in the Lobbying Disclosure Act, Title 2, United States Code, Section 1603.

The Department of Homeland Security (DHS) does not discriminate in employment on the basis of race, color, religion, sex, national origin, political affiliation, sexual orientation, gender identity, marital status, disability and genetic information, age, membership in an employee organization, or other non-merit factor. DHS strives to achieve a widely diverse candidate pool for all of its recruitment actions.

If you are selected as a member from the general public category, you will be appointed and serve as a Special Government Employee (SGE) as defined in Section 202(a) of Title 18, United States Code. As a candidate for appointment as SGE, applicants are required to complete a Confidential Financial Disclosure Report (OGE Form 450). DHS may not release the reports or the information in them to the public except under an order issued by a Federal court or as otherwise provided under the Privacy Act (5 U.S.C. 552a). Applicants can obtain this form by going to the Web site of the Office of Government Ethics (www.oge.gov), or by contacting the individual listed above. Applications which are not accompanied by a completed OGE Form 450 will not be considered.

If you are interested in applying to become a member of the Committee, send your application materials to Mr. Jack Kemerer, CFSAC ADFO via one of the transmittal methods provided above. Indicate the position you wish to fill and specify your area of expertise, knowledge and experience that qualifies you to serve on CFSAC. Note that during the pre-selection vetting process, applicants may be asked to provide date of birth and social security number.

To visit our online docket, go to http://www.regulations.gov, enter the docket number for this notice (USCG-2013-0518) in the Search box, and click “Search”. Please do not post your resume or OGE 450 Form on this site.

Dated: June 13, 2013.
David S. Fish,
Captain, U.S. Coast Guard, Acting Director of Inspections and Compliance.

[FR Doc. 2013-14550 Filed 6-18-13; 8:45 am]

BILLING CODE 9110-04-P